Title 3—

The President

Notice of August 4, 2022

Continuation of the National Emergency With Respect to Export Control Regulations

On August 17, 2001, the President issued Executive Order 13222 pursuant to the International Emergency Economic Powers Act (50 U.S.C. 1701 et seq.). In that order, the President declared a national emergency with respect to the unusual and extraordinary threat to the national security, foreign policy, and economy of the United States related to the expiration of the Export Administration Act of 1979, as amended (50 U.S.C. 4601 et seq.). Because the implementation of certain sanctions authorities, including sections 11A, 11B, and 11C of such Export Administration Act of 1979, consistent with section 1766(b) of Public Law 115-232, the Export Control Reform Act of 2018 (50 U.S.C. 4801 note), is to be carried out under the International Emergency Economic Powers Act, the national emergency declared on August 17, 2001, must continue in effect beyond August 17, 2022. Therefore, in accordance with section 202(d) of the National Emergencies Act (50 U.S.C. 1622(d)), I am continuing for 1 year the national emergency declared in Executive Order 13222, as amended by Executive Order 13637 of March 8, 2013.

This notice shall be published in the Federal Register and transmitted to the Congress.

THE WHITE HOUSE,

August 4, 2022.

[FR Doc. 2022-17049

Filed 8-4-22; 2:00 pm]

Billing code 3395-F2-P